DEPARTMENT OF JUSTICE

Drug Enforcement Administration

[Docket No. DEA-566]

Bulk Manufacturer of Controlled Substances Application: Janssen Pharmaceuticals Inc.

ACTION: Notice of application.

DATES: Registered bulk manufacturers of the affected basic classes, and applicants therefore, may file written comments on or objections to the issuance of the proposed registration on or before February 25, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on October 9, 2019, Janssen Pharmaceuticals Inc., Buildings 1-5 & 7-14, 1440 Olympic Drive, Athens, Georgia 30601 applied to be registered as a bulk manufacturer of the following basic classes of controlled substances:

Controlled substance | Drug code | Schedule
Methylphenidate | 1724 | II
Hydromorphone | 9150 | II
Hydrocodone | 9193 | II
Oripavine | 9330 | II
Thebaine | 9333 | II
Tapentadol | 9780 | II

The company plans to manufacture the above-listed controlled substances in bulk for distribution to its customers.

Dated: December 10, 2019.
William T. McDermott,
Assistant Administrator.

[FR Doc. 2019-27952 Filed 12-26-19; 8:45 am]

BILLING CODE 4410-09-P